FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans No. | Acquiring | Acquired | Entities
TRANSACTIONS GRANTED EARLY TERMINATION—02/19/2008
20080650 | Liberty Media Corporation | The V.I.P. Tour Company | The V.I.P. Tour Company.
20080660 | Barry Diller | The V.I.P. Tour Company | The V.I.P. Tour Company.
20080680 | Icahn Partners L.P. | CSX Corporation | CSX Corporation.
20080681 | Icahn Partners Master Fund L.P. | CSX Corporation | CSX Corporation.
20080682 | Carl C. Icahn | CSX Corporation | CSX Corporation.
20080683 | Icahn Partners Master Fund II L.P | CSX Corporation | CSX Corporation.
20080732 | Mason Wells Buyout Fund II, Limited Partnership | John M. Johnson | Northland Group, Inc.
20080737 | Shamrock Activist Value Fund, L.P | Reddy Ice Holdings, Inc. | Reddy Ice Holdings, Inc.
20080741 | Employers Holdings, Inc | AmComp Incorporated | AmComp Incorporated.
TRANSACTIONS GRANTED EARLY TERMINATION—02/20/2008
20080747 | Verizon Communications Inc | SureWest Communications | SureWest Wireless, West Coast PCS LLC.
TRANSACTIONS GRANTED EARLY TERMINATION—02/25/2008
20071137 | UnitedHealth Group Incorporated | Sierra Health Services, Inc | Sierra Health Services, Inc.
20080703 | Blackstone Holdings I L.P. | GSO Capital Partners L.P. | GSO Capital Partners L.P.
20080704 | NYSE Euronext | Ronald B. Verstappen | Wombat Financial Software, Inc.
20080708 | Ciena Corporation | World Wide Packets, Inc | World Wide Packets, Inc.
20080734 | Global BPO Services Corp | H.I.G. Capital Partners III, L.P | Stream Holdings Corporation.
20080756 | C. L. de Carvalho-Heineken | Scottish & Newcastle plc | Scottish & Newcastle plc.
20080760 | Thomas H. Lee Equity Fund VI, L.P | MoneyGram International, Inc | MoneyGram International, Inc.
20080761 | Thomas H. Lee Parallel Fund VI, L.P | MoneyGram International, Inc | MoneyGram International, Inc.
20080762 | ArcLight Energy Partners Fund III, L.P | Renewpower LLC | Caithness Wind Limited Partnership, Cameron Ridge, LLC, Pacific Crest Power, LLC, Terra-Gen Wind Holdings II, LLC.
20080763 | ArcLight Energy Fund IV, L.P | Renewpower LLC | Caithness Wind Limited Partnership, Cameron Ridge, LLC, Pacific Crest Power, LLC, Terra-Gen Wind Holdings II, LLC.
20080765 | Korea National Oil Corporation | Phyllis M. Taylor | Taylor Energy Company LLC.
20080769 | Finance Holding Corporation | Financial Industries Corporation | Financial Industries Corporation.
20080771 | MBF Healthcare Acquisition Corp | Kohlberg Investors V, L.P | Critical Homecare Solutions Holdings, Inc.
20080772 | QBE Insurance Group Limited | North Pointe Holdings Corporation | North Pointe Holdings Corporation.
20080773 | Genmab A/S | PDL BioPharma, Inc. | PDL BioPharma, Inc.
TRANSACTIONS GRANTED EARLY TERMINATION—02/26/2008
20080722 | Brose International GmbH | Continental AG | Continental AG.
20080742 | General Electric Company | San Faustin N.V. | Hydril Company, Hydril LLC.
20080753 | Nucor Corporation | SHV Holdings N.V. | SHV North America Corporation.
20080784 | Platinum Equity Capital Partners II, L.P | WPI Holding Corp. | WPI Holding Corp.
TRANSACTIONS GRANTED EARLY TERMINATION—02/27/2008
20080693 | Oracle Corporation | BEA Systems, Inc. | BEA Systems, Inc.
20080729 | EKR Holdings, Inc. | PDL BioPharma, Inc. | PDL BioPharma, Inc.
20080770 | Providence Equity Partners VI L.P | John J. Hemmingson | Assessment Technologies Institute, LLC.
20080776 | D.E. Shaw Composite International Fund | Globe Specialty Metals, Inc | Globe Specialty Metals, Inc.
20080777 | Alan Kestenbaum | Globe Specialty Metals, Inc | Globe Specialty Metals, Inc.
20080779 | Stichting Gerdau Johannpeter | Lynn Leany | Calico Construction Supply, LLC, Century Properties Henderson 18 LLC, Century Steel Holdings, Inc., Century Steel, Inc., Pinnacle Data International, LLC.
20080799 | Plainfield Special Situations Offshore Feeder Fund Limited | Globe Specialty Metals, Inc | Globe Specialty Metals, Inc.
TRANSACTIONS GRANTED EARLY TERMINATION—02/28/2008
20080705 | Hewlett-Packard Company | Exstream, Inc. | Exstream Holdings, Inc., Exstream Software, LLC, Exstream Software North America, LLC.
20080725 | Harbinger Capital Partners Offshore Fund I, Ltd | Cleveland-Cliffs Inc. | Cleveland-Cliffs Inc.
20080731 | Cogdell Spencer Inc. | MEA Holdings, Inc. | MEA Holdings, Inc.
20080733 | Jahm Najafi | Henkel KGaA | Henkel Corporation.
20080743 | Audax Private Equity Fund II, L.P | Economy Restaurant Fixtures, Inc | Economy Restaurant Fixtures, Inc.
20080785 | Palladium Equity Partners III, L.P | American Gilsonite Company | American Gilsonite Company.
TRANSACTIONS GRANTED EARLY TERMINATION—02/29/2008
20080752 | Peter M. Brant | SP Newsprint Co. | SP Newsprint Co.

FOR FURTHER INFORMATION CONTACT: Sandra M. Peay, Contact Representative, or Renee Hallman, Contact Representative, Federal Trade Commission, Premerger Notification Office, Bureau Of Competition, Room H-303, Washington, DC 20580; (202) 326-3100.

By Direction of the Commission,
Donald S. Clark,
Secretary.

[FR Doc. E8-4883 Filed 3-12-08; 8:45 am]

BILLING CODE 6750-01-M